ENVIRONMENTAL PROTECTION AGENCY

40 CFR Part 52

[CA 234-0187b; FRL-6529-7]

Approval and Promulgation of State Implementation Plans; California State Implementation Plan Revision, Kern County, San Diego County, San Joaquin Valley Unified Air Pollution Control Districts and South Coast Air Quality Management District

AGENCY: Environmental Protection Agency (EPA).

ACTION: Proposed rule.

SUMMARY: EPA is proposing revisions to the California State Implementation Plan (SIP). This action revises the definitions in the California State Implementation Plan regarding, Kern County Air Pollution Control District (KCAPCD), San Diego County Air Pollution Control District (SDCAPCD), San Joaquin Valley Unified Air Pollution Control District (SJVUAPCD) and South Coast Air Quality Management District (SCAQMD).

The intended effect of this action is to incorporate these changes to various definitions and to update the Exempt Compound list in KCAPCD, SDCAPCD, SJVUAPCD, and SCAQMD rules to be consistent with the revised federal and state VOC definitions. EPA is proposing approval of these revisions to be incorporated into the California SIP for the attainment of the national ambient air quality standards (NAAQS) for ozone under title I of the Clean Air Act (CAA or the Act). In the Final Rules Section of this Federal Register, the EPA is approving the state's SIP submittal as a direct final rule without prior proposal because the Agency views this as a noncontroversial revision and anticipates no adverse comments. A detailed rationale for this approval is set forth in the direct final rule. If no adverse comments are received, no further activity is contemplated. If EPA receives adverse comments, the direct final rule will be withdrawn and all public comments received will be addressed in a subsequent final rule based on this proposed rule. The EPA will not institute a second comment period. Any parties interested in commenting should do so at this time.

DATES: Written comments must be received by March 6, 2000.

ADDRESSES: Comments should be addressed to: Andrew Steckel, Rulemaking Office (AIR-4), Air Division, U.S. Environmental Protection Agency, Region IX, 75 Hawthorne Street, San Francisco, CA 94105-3901.

Copies of the rule revisions and EPA's evaluation report of each rule are available for public inspection at EPA's Region 9 office during normal business hours. Copies of the submitted rule revisions are also available for inspection at the following locations:

California Air Resources Board, Stationary Source Division, Rule Evaluation Section, 2020 “L” Street, Sacramento, CA 95812

Kern County Air Pollution Control District Southeast Desert, 2700 “M” Street, Suite 302, Bakersfield, CA 93301-2370

San Diego County Air Pollution Control District, 9150 Chesapeake Dr., San Diego, CA 92123-1096

San Joaquin Valley Unified Air Pollution Control District, 1990 E. Gettysburg, Fresno, CA 93726

South Coast Air Quality Management District, 21865 E. Copley Dr., Diamond Bar, CA 91765-4182

FOR FURTHER INFORMATION CONTACT: Cynthia G. Allen, [A-4], Air Division, U.S. Environmental Protection Agency, Region 9, 75 Hawthorne Street, San Francisco, CA 94105-3901, Telephone: (415) 744-1189.

SUPPLEMENTARY INFORMATION: This document concerns Kern County Air Pollution Control District Rule 102, Definitions, San Diego County Air Pollution Control District Rule 2, Definitions and Rule 3, Standard Conditions, San Joaquin Valley Unified Air Pollution Control District Rule 1020, Definitions, and South Coast Air Quality Management District Rule 102, Definition of Terms, submitted on September 7, 1999, by the California Air Resources Board. For further information, please see the information provided in the direct final action that is located in the rules section of this Federal Register.

Dated: January 10, 2000.
Felicia Marcus,
Regional Administrator, Region IX.

[FR Doc. 00-2170 Filed 2-2-00; 8:45 am]

BILLING CODE 6560-50-P